DEPARTMENT OF TRANSPORTATION

Federal Aviation Administration

14 CFR Part 39

[Docket No. FAA-2012-0720; Directorate Identifier 2012-NM-059-AD]

RIN 2120-AA64

Airworthiness Directives; Cessna Aircraft Company Airplanes

AGENCY: Federal Aviation Administration (FAA), DOT.

ACTION: Notice of proposed rulemaking (NPRM).

SUMMARY: We propose to adopt a new airworthiness directive (AD) for certain Cessna Aircraft Company Model 750 airplanes. This proposed AD was prompted by reports of loss of displayed airspeed. This proposed AD would require inspecting certain logic modules to determine if certain cabin altitude/pitot static heater module assemblies are installed and replacing those assemblies with a new assembly; and revising the Non-Normal Procedures Section of the airplane flight manual (AFM) to include procedures for resetting the pitot switch in the event of pitot heater failure and for total loss of airspeed indication. We are proposing this AD to prevent the loss of all displayed airspeed, which could result in reduced ability to control the airplane.

DATES: We must receive comments on this proposed AD by August 31, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Cessna Aircraft Co., P.O. Box 7706, Wichita, Kansas 67277; telephone 316-517-6215; fax 316-517-5802; email citationpubs@cessna.textron.com; Internet https://www.cessnasupport.com/newlogin.html. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Christine Abraham, Aerospace Engineer, Electrical Systems and Avionics, ACE-119W, FAA, Wichita Aircraft Certification Office (ACO), 1801 Airport Road, Room 100, Mid-Continent Airport, Wichita, Kansas 67209; phone: 316-946-4165; fax: 316-946-4107; email: Christine.Abraham@faa.gov.

SUPPLEMENTARY INFORMATION:

Comments Invited

We invite you to send any written relevant data, views, or arguments about this proposal. Send your comments to an address listed under the ADDRESSES section. Include “Docket No. FAA-2012-0720; Directorate Identifier 2012-NM-059-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received multiple reports of loss of displayed airspeed. An investigation has revealed that a sudden temperature change to the pitot probe can cause a spike in the current supplied by the cabin altitude logic module. The over-current module senses the spike and shuts the current off resulting in loss of heat to the pitot probe(s). In the absence of pitot heat, ice can build up on the pitot probes resulting in no airspeed information being sent to the air data system and consequent loss of displayed airspeed. The loss of all displayed airspeed could result in reduced ability to control the airplane.

Relevant Service Information

We reviewed Cessna Service Letter SL750-30-08, Revision 1, dated July 11, 2011. This service information describes procedures for inspecting certain logic modules to determine if certain cabin altitude/pitot static heater module assemblies are installed and replacing those assemblies with a new assembly.

We have also reviewed the following temporary changes to the Cessna 750 AFM for resetting the pitot switch in the event of pitot heat failure and for total loss of airspeed indication.

• Cessna Temporary FAA Approved Airplane Flight Manual Change 75FM TC-R11-25, approved June 26, 2012.

• Cessna Temporary FAA Approved Airplane Flight Manual Change 75FM TC-R11-26, approved June 26, 2012.

• Cessna Temporary FAA Approved Airplane Flight Manual Change 75FM TC-R11-23, approved June 26, 2012.

• Cessna Temporary FAA Approved Airplane Flight Manual Change 75FM TC-R11-24, approved June 26, 2012.

• Cessna Temporary FAA Approved Airplane Flight Manual Change 75FMA TC-R02-03, approved April 10, 2012.

• Cessna Temporary FAA Approved Airplane Flight Manual Change 75FMA TC-R02-07, approved June 26, 2012.

FAA's Determination

We are proposing this AD because we evaluated all the relevant information and determined the unsafe condition described previously is likely to exist or develop in other products of the same type design.

Proposed AD Requirements

This proposed AD would require accomplishing the actions specified in the service information described previously, except as discussed under “Differences Between the Proposed AD and the Service Information.” Additionally, this proposed AD would require revising the Non-Normal Procedures Section of the Cessna 750 AFM to include procedures for resetting the pitot switch in the event of pitot heater failure and for total loss of airspeed indication.

Differences Between the Proposed AD and the Service Information

Although Cessna Service Letter SL750-30-08, Revision 1, dated July 11, 2011, recommends accomplishing the inspection within 1,200 flight hours or two years after the date of receipt of that service letter, we have determined that interval would not address the identified unsafe condition soon enough to ensure an adequate level of safety for the affected fleet. In developing an appropriate compliance time for this proposed AD, we considered the degree of urgency associated with the subject unsafe condition and we find that a compliance time of within 600 flight hours or within one year after the effective date of this proposed AD, whichever occurs first, represents an appropriate interval of time for affected airplanes to continue to operate without compromising safety. This difference has been coordinated with Cessna.

Costs of Compliance

We estimate that this proposed AD affects 210 airplanes of U.S. registry.

We estimate the following costs to comply with this proposed AD:

Estimated Costs
Action | Labor cost | Parts cost | Cost per product | Cost on U.S. operators
Inspection | 2 work-hours × $85 per hour = $170 | $0 | $170 | $35,700
Revision | 1 work-hour × $85 per hour = $85 | 0 | 85 | 17,850

We estimate the following costs to do any necessary replacements that would be required based on the results of the proposed inspection. We have no way of determining the number of aircraft that might need these replacements:

On-Condition Costs
Action | Labor cost | Parts cost | Cost per product
Replacement | 1 work-hour × $85 per hour = $85 | $4,058 | $4,143

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Cessna Aircraft Company: Docket No. FAA-2012-0720; Directorate Identifier 2012-NM-059-AD.

(a) Comments Due Date

We must receive comments by August 31, 2012.

(b) Affected ADs

None.

(c) Applicability

This AD applies to The Cessna Aircraft Company Model 750 airplanes, certificated in any category, serial numbers 0001 through 0245 inclusive.

(d) Subject

Joint Aircraft System Component (JASC)/Air Transport Association (ATA) of America Code 3030, Pitot/Static Anti-Ice System.

(e) Unsafe Condition

This AD was prompted by reports of loss of displayed airspeed. We are issuing this AD to prevent the loss of all displayed airspeed, which could result in reduced ability to control the airplane.

(f) Compliance

Comply with this AD within the compliance times specified, unless already done.

(g) Inspection and Replacement

Within 600 flight hours or one year after the effective date of this AD, whichever occurs first: Do an inspection of logic modules having part number (P/N) NC006 and P/N NC007 to determine if any cabin altitude/pitot static heater module assemblies having P/N 6718477-9, or P/N 6718477-10, or 9914731-1 are installed, in accordance with the Accomplishment Instructions of Cessna Service Letter SL750-30-08, Revision 1, dated July 11, 2011. If any altitude/pitot static heater module assembly having P/N 6718477-9, P/N 6718477-10, or 9914731-1 is installed: Before further flight, replace that assembly with a new assembly having P/N 6718477-11, in accordance with the Accomplishment Instructions of Cessna Service Letter SL750-30-08, Revision 1, dated July 11, 2011.

(h) Airplane Flight Manual (AFM) Revision

Concurrently with the actions required by paragraph (g) of this AD: Revise the Non-Normal Procedures Section of the Cessna 750 AFM to include the information the flight manual changes identified in paragraphs (h)(1), (h)(2), (h)(3), (h)(4), (h)(5), and (h)(6) of this AD. This may be done by inserting copies of these flight manual changes into the Cessna 750 AFM. When these flight manual changes have been included in general revisions of the AFM, the general revisions may be inserted in the AFM, provided the relevant information in the general revision is identical to that in these flight manual changes, and then these temporary flight manual changes may be removed.

(1) Cessna Temporary FAA Approved Airplane Flight Manual Change 75FM TC-R11-25, approved June 26, 2012.

(2) Cessna Temporary FAA Approved Airplane Flight Manual Change 75FM TC-R11-26, approved June 26, 2012.

(3) Cessna Temporary FAA Approved Airplane Flight Manual Change 75FM TC-R11-23, approved June 26, 2012.

(4) Cessna Temporary FAA Approved Airplane Flight Manual Change 75FM TC-R11-24, approved June 26, 2012.

(5) Cessna Temporary FAA Approved Airplane Flight Manual Change 75FMA TC-R02-03, approved April 10, 2012.

(6) Cessna Temporary FAA Approved Airplane Flight Manual Change 75FMA TC-R02-07, approved June 26, 2012.

(i) Parts Installation Prohibition

As of the effective date of this AD, no person may install an altitude/pitot static heater module assembly having P/N 6718477-9, 6718477-10, or 9914731-1, on any airplane.

(j) Special Flight Permit

Special flight permits may be issued in accordance with sections 21.197 and 21.199 of the Federal Aviation Regulations (14 CFR 21.197 and 21.199) to operate the airplane to a location where the airplane can be modified (if the operator elects to do so), provided the actions required by paragraph (h) of this AD have been accomplished.

(k) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(l) Related Information

(1) For more information about this AD, contact Christine Abraham, Aerospace Engineer, Electrical Systems and Avionics, ACE-119W, FAA, Wichita Aircraft Certification Office, 1801 Airport Road, Room 100, Mid-Continent Airport, Wichita, Kansas 67209; phone: 316-946-4165; fax: 316-946-4107; email: Christine.Abraham@faa.gov.

(2) For service information identified in this AD, contact Cessna Aircraft Co., P.O. Box 7706, Wichita, Kansas 67277; telephone 316-517-6215; fax 316-517-5802; email citationpubs@cessna.textron.com; Internet https://www.cessnasupport.com/newlogin.html. You may review copies of the service information at the FAA, Transport Airplane Directorate, 1601 Lind Avenue SW., Renton, WA. For information on the availability of this material at the FAA, call 425-227-1221.

Issued in Renton, Washington, on July 6, 2012.
Kalene C. Yanamura,
Acting Manager, Transport Airplane Directorate, Aircraft Certification Service.

[FR Doc. 2012-17395 Filed 7-16-12; 8:45 am]

BILLING CODE 4910-13-P